DEPARTMENT OF THE INTERIOR

Fish and Wildlife Service

[FWS-R4-R-2014-N152; FXRS12650400000S3-123-FF04R02000]

Theodore Roosevelt and Holt Collier National Wildlife Refuges, Mississippi; Draft Comprehensive Conservation Plan and Environmental Assessment

AGENCY: Fish and Wildlife Service, Interior.

ACTION: Notice of availability; request for comments.

SUMMARY: We, the Fish and Wildlife Service (Service), announce the availability of a Draft Comprehensive Conservation Plan and Environmental Assessment (Draft CCP/EA) for Theodore Roosevelt and Holt Collier National Wildlife Refuges (NWRs) in Sharkey and Washington Counties, Mississippi, for public review and comment. In this Draft CCP/EA, we describe the alternative proposed to manage these refuges for the 15 years following approval of the final CCP.

DATES: To ensure consideration, we must receive your written comments by April 13, 2015.

ADDRESSES: You may obtain a copy of the Draft CCP/EA by contacting Justin Sexton, Refuge Manager, by mail at Yazoo National Wildlife Refuge, 595 Yazoo Refuge Rd., Hollandale, MS 38748, or by phone at (662) 839-2638. Alternatively, you may download the document from our Internet Site at http://southeast.fws.gov/planning under “Draft Documents.” Comments on the Draft CCP/EA may be submitted to the above postal address or by email to Justin Sexton at Justin_Sexton@fws.gov.

FOR FURTHER INFORMATION CONTACT: Justin Sexton, (662) 839-2638 (phone) or Justin_Sexton@fws.gov (email).

SUPPLEMENTARY INFORMATION:

Introduction

With this notice, we continue the CCP process, which started through a notice in the Federal Register on July 30, 2013 (78 FR 18231). For more about the refuges and our CCP process, please see that notice.

The refuges are located in Central Mississippi. They are two of seven refuges in the Theodore Roosevelt NWR Complex. The two refuges were established for conservation purposes. The enacting legislation for both refuges is section 145 of Public Law 108-199, the Consolidated Appropriations Act of 2004. This Act renamed The Bogue Phalia Unit of Yazoo NWR as Holt Collier NWR. This is the first NWR to be named in honor of an African American historical legend and famed hunting guide to President Roosevelt. Legislative authority for Holt Collier NWR therefore also comes from the Fish and Wildlife Coordination Act, which established Yazoo NWR.

Holt Collier NWR consists of approximately 2,233 acres of Farm Service Agency lands in Washington County, and it is located 5 miles east of Hollandale in the Darlove area. Its approved acquisition boundary is 18,000 acres. The refuge is open year-round for wildlife-related activities such as hunting, wildlife observation, and nature photography. The refuge habitat is former agricultural lands, most of which, in the past 15 years, have been reforested to bottomland hardwood.

Theodore Roosevelt NWR is located in Sharkey County south of Cary, Mississippi. Congress authorized 6,600 acres to be acquired through donation and land exchange. To date 1,674 acres have been established in fee title. The habitat consists mainly of converted, agricultural lands now reforested to trees more indicative of the native bottomland hardwood forest. Farmlands and open water also occur. The refuge is not open to the public. There are no public facilities located on either refuge.

Background

The CCP Process

The National Wildlife Refuge (NWR) System Improvement Act of 1997 (Improvement Act) requires us to develop a CCP for each national wildlife refuge. CCPs are developed to provide refuge managers with a 15-year plan for achieving refuges' purposes and contributing toward the mission of the NWR System, consistent with sound principles of fish and wildlife management, conservation, legal mandates, and our policies. CCPs describe a broad management direction for conserving wildlife and their habitats. They propose wildlife-dependent recreational opportunities to be made available to the public. These include opportunities for hunting, fishing, wildlife observation, wildlife photography, and environmental education and interpretation. We will review the CCP annually and revise it as needed in accordance with the Improvement Act.

Priority resource issues addressed in the Draft CCP/EA include: Fish and Wildlife Populations, Habitat Management, Resource Protection, Visitor Services, and Refuge Administration. See Chapter III in the Draft CCP for a full description.

CCP Alternatives, Including Our Proposed Alternative (B)

We developed three alternatives for managing the refuge (Alternatives A, B, and C), with Alternative B as our proposed alternative. A full description of each alternative is in the CCP (Chapter IV) and Chapters III and IV of the EA. We summarize each alternative below.

Alternative A: Current Management (No Action)

Alternative A continues the refuges' limited management activities and programs at levels similar to the current and past few years of management. Theodore Roosevelt NWR would remain closed until a sufficient land area is accumulated to accommodate public use.

We would continue to approve and support Special Use Permits to outside agencies to conduct research on the refuges. While there is no active research or management for listed species that may occur on the refuges, the Service supports State research efforts for the Louisiana black bear. Waterfowl are the priority species for management on the Complex. Both refuges have a passive role in providing sanctuary for waterfowl. Native wildlife species benefit from waterfowl and timber management on the Complex. At Holt Collier NWR, hunting programs aim to manage white-tailed deer and there are partnerships for healthy herd efforts and studies.

The refuges' primary mission is to provide sanctuary for wildlife, particularly migratory birds (waterfowl). Major reforestation efforts in recent decades returned converted agricultural lands to bottomland hardwood forest. The Service would continue to acquire lands to grow the refuges. There is no active management of forest or water resources. Invasive species such as feral swine would be controlled, and grant opportunities and partnerships would be pursued to fund and/or conduct trapping.

Efforts to promote visitor safety, protect resources, and ensure public compliance with refuge regulations would continue as a collateral duty of one law enforcement officer for three refuges. Complex personnel also provide safety and refuge regulation information. A law enforcement step-down plan is under development for the Complex. In keeping with the Service's responsibilities under cultural and historic preservation laws, cultural resource protection is addressed in refuge operations.

The Delta area is known for its cultural history, and these refuges were created to honor and promote it. The Consolidated Appropriations Act of 2004 established the refuges and appropriated funds for an environmental education and interpretive center. The Congressional sponsors of the Act intended for it to be named for Holt Collier, a historic figure of the area. The Service would incorporate the environmental education and interpretive facilities within a Visitor Center for the Complex located at Theodore Roosevelt NWR. Efforts would continue to identify a site for the Visitor Center to showcase the Delta's rich cultural heritage. At present the Complex provides information and interpretation via its and each refuge's Web sites and by staffing events or public talks. There are no volunteer or Friends programs to provide a base of support for staff assistance.

Access to both refuges is via State roads and highways that pass through the refuges. Wildlife viewing opportunities for both refuges are limited. Theodore Roosevelt NWR is closed to public use, and Holt Collier NWR has limited public use, mainly hunting. The only facility on either refuge is the hunter information station at Holt Collier NWR. When Theodore Roosevelt NWR has acquired enough land to support public use, it would be opened to wildlife-dependent public uses including hunting and fishing. No funding would be sought for positions to further manage the refuges.

Alternative B: Minimally Developed Refuges

As these are newer refuges authorized by Congress in 2004, the focus of this plan is to develop them. Congress established the refuges with a mandate to expand them to their designated land acreages. Therefore, our efforts over the next 15 years will be focused on land acquisition to build-out the refuges to their approved acquisition boundaries. Passive habitat protection and the addition of new resource lands beneficial to wildlife will help preserve habitat in perpetuity and to lessen fragmentation. This plan has the objective of providing sanctuary to migratory species as a group, not just priority waterfowl species. White-tailed deer management would continue through the Holt Collier NWR hunt program and eventually at Theodore Roosevelt NWR. Integrated damage control of invasive and nuisance species would lessen the negative effects on the refuges' habitats.

Another primary focus of the plan is to create a visitor services program to enhance environmental education and outreach efforts substantially and to reach larger numbers of residents, students, educators, and visitors. It places priority on wildlife-dependent uses, such as hunting, fishing and wildlife observation. The details of these allowable uses are specified in appropriate use and compatibility determinations (Appendices E and F).

Priority public uses, such as hunting, are allowed at Holt Collier NWR. At a time when sufficient land is amassed to allow for ample public use opportunities, Theodore Roosevelt NWR would be opened to hunting. Public use would be phased into both refuges. Compatibility determinations are updated and proposed for the priority public uses and for research and monitoring. For both refuges, some commercial uses would be allowed under a Commercial Special Use Permit, including commercial photography, firewood gathering, timber harvest for forest management, and trapping.

The Consolidated Appropriations Act of 2004 appropriated funds for a Visitor Center to provide visitor services and to promote the Delta area's natural resources and cultural heritage. A major focus of this plan and Service efforts will be to site, build, and staff the Visitor Center. Key interpretive messages would focus on natural resources (e.g., Louisiana black bear) and cultural heritage and would reach a broader audience and geographic area. Currently the Service is working on accepting a 5-acre land donation and purchasing the adjacent 20 acres to serve as the site for the Visitor Center. All preliminary, site-suitability work has been completed. Once a location is secured for the Visitor Center, regular Service procedures would be followed for site and building design and construction. Staffing is proposed to run the Visitor Center, to provide environmental and interpretive programs, and to coordinate volunteers.

This CCP assumes a modest growth of refuge resources over its 15-year implementation period. This plan proposes to staff the refuges with three new positions as new funding is available. Current partnerships would be maintained and new ones would be sought. Daily operation of the refuges will be guided by this CCP and through the implementation of nine projects and six step-down management plans as detailed in Chapter V, Plan Implementation.

The goals, objectives, and strategies presented are the Service's responses to the issues, concerns, and needs expressed by the planning team, refuge partners, and the public. They reflect the Service's commitment to achieve the mandates of the Improvement Act, the mission of the Refuge System, and the purposes and vision of the refuges. Assuming adequate resources are provided through Congressional budget and grant funding, the Service aims to accomplish these goals, objectives, and strategies within the next 15 years.

Alternative C: Optional Alternative

Like Alternative B, Alternative C presents a management scenario in which the newer refuges are minimally developed to allow for basic natural resource management, for the promotion of cultural heritage, and for wildlife-dependent public use. It also provides for modest staffing and management capability, adding three positions to the three identified in Alternative B. Whereas the facilities for public use will mainly be off site and associated with the administrative Visitors Center site for both Alternatives A and B, Alternative C adds facilities to the refuges proper to provide for basic visitor use and to promote wildlife-dependent recreation, mainly fishing and wildlife observation and photography. The refuges would add a maintenance compound on each refuge and visitor services facilities to promote access and use. These include adding a system of trails for each refuge and providing fishing access via a primitive boat launch at Coon Bayou. To enhance wildlife viewing, a photography observation platform and/or photo blinds would be constructed at each refuge.

The Service would expand its survey and monitoring of priority species as proposed in Alternative B to obtain baseline data for native species, none of which have been inventoried or their presence documented (e.g., selected mammals, fish, reptiles, amphibians and invertebrates). Also, active habitat management (e.g., cooperative farming, moist soil management) could occur. Nuisance animal control and invasive plant species management would continue as described in Alternative B and conducted opportunistically.

Alternative C includes adding the positions proposed in Alternative B plus three others: A Federal Wildlife Officer position, a Visitor Services Specialist, and an office/administrative assistant or clerk position, which, among administrative duties, would serve as a receptionist at the Visitor Center. With additional staffing, the Visitor Center could be open more hours.

Next Step

After the comment period ends, we will analyze the comments and address them.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: January 5, 2015.
Mike Oetker,
Acting Regional Director.

[FR Doc. 2015-05721 Filed 3-12-15; 8:45 am]

BILLING CODE 4310-55-P